DEPARTMENT OF COMMERCE

International Trade Administration

[A-122-857]

Certain Softwood Lumber Products From Canada: Final Results of Antidumping Duty Administrative Review; 2019; Correction

AGENCY: Enforcement and Compliance, International Trade Administration, Department of Commerce.

ACTION: Notice; correction.

SUMMARY: The Department of Commerce (Commerce) published notice in the Federal Register on December 2, 2021 in which Commerce announced the final results of the 2019 administrative reviews of the antidumping duty (AD) order on softwood lumber from Canada. This notice incorrectly excluded the name Fraserview Remanufacturing Inc., d.b.a. Fraserview Cedar Products.

FOR FURTHER INFORMATION CONTACT: Jeff Pedersen, AD/CVD Operations, Office IV, Enforcement and Compliance, International Trade Administration, U.S. Department of Commerce, 1401 Constitution Avenue NW, Washington, DC 20230; telephone: (202) 482-2769.

SUPPLEMENTARY INFORMATION:

Correction

In the Federal Register of December 2, 2021, in FR Doc 2021-26149, on page 68473, in the third column, we will correct the name of the Exporter/Producer “5. 752615 B.C Ltd” by adding the name Fraserview Remanufacturing Inc., d.b.a. Fraserview Cedar Products to this name, such that it reads “5. 752615 B.C Ltd; Fraserview Remanufacturing Inc., d.b.a. Fraserview Cedar Products.”

Background

On December 2, 2021, Commerce published in the Federal Register the final results of the 2019 administrative reviews of the AD order on softwood lumber from Canada.¹ We failed to include the name Fraserview Remanufacturing Inc., d.b.a. Fraserview Cedar Products in the list of exporters and producers under review.

¹ See Certain Softwood Lumber Products from Canada: Final Results of Antidumping Duty Administrative Review; 2019, 86 FR 68471 (December 2, 2021).

Notification to Interested Parties

This notice is issued and published in accordance with sections 751(a)(1) and 777(i)(1) of the Tariff Act of 1930, as amended and 19 CFR 351.213(h).

Dated: January 19, 2022.
Ryan Majerus,
Deputy Assistant Secretary for Policy and Negotiations.

[FR Doc. 2022-01362 Filed 1-24-22; 8:45 am]

BILLING CODE 3510-DS-P